DEPARTMENT OF LABOR

Employment and Training Administration

[TA-W-82,221]

Plexus Corporation, Neenah Operations Including On-Site Leased Workers From Kelly Services, Inc., Aerotek and Gold Star Solutions, Inc. Neenah, Wisconsin; Amended Certification Regarding Eligibility To Apply for Worker Adjustment Assistance

In accordance with Section 223 of the Trade Act of 1974, as amended (“Act”), 19 U.S.C. 2273, the Department of Labor issued a Certification of Eligibility to Apply for Worker Adjustment Assistance on April 5, 2013, applicable to workers of Plexus Corporation, Neenah Operations, including on-site leased workers from Kelly Services, Inc., Neenah, Wisconsin. The workers are engaged in activities related to the production of printed circuit boards. The notice was published in the Federal Register on April 30, 2013 (78 FR 25306).

At the request of Wisconsin State, the Department reviewed the certification for workers of the subject firm. New information from the company shows that workers leased from Aerotek and Gold Star Solutions, Inc. were employed on-site at the Neenah, Wisconsin location of Plexus Corporation, Neenah Operations. The Department has determined that these workers were sufficiently under the control of Plexus Corporation, Neenah Operations to be considered leased workers.

The intent of the Department's certification is to include all workers of the firm who were adversely affected by a shift in the production of printed circuit boards to a foreign country.

Based on these findings, the Department is amending this certification to include workers leased from Aerotek and Gold Star Solutions, Inc. working on-site at the Neenah, Wisconsin location of the subject firm.

The amended notice applicable to TA-W-82,221 is hereby issued as follows:

All workers from Plexus Corporation, Neenah Operations, including on-site leased workers from Kelly Services, Inc., Aerotek and Gold Star Solutions, Inc., Neenah, Wisconsin, who became totally or partially separated from employment on or after December 5, 2011 through April 5, 2015, and all workers in the group threatened with total or partial separation from employment on date of certification through two years from the date of certification, are eligible to apply for adjustment assistance under Chapter 2 of Title II of the Trade Act of 1974, as amended.

Signed at Washington, DC, this 29th day of January 2014.
Michael W. Jaffe,
Certifying Officer, Office of Trade Adjustment Assistance.

[FR Doc. 2014-03001 Filed 2-11-14; 8:45 am]

BILLING CODE 4510-FN-P